DEPARTMENT OF COMMERCE

National Oceanic and Atmospheric Administration

RIN 0648-XH34

Fisheries in the Western Pacific; Western Pacific Pelagic Fisheries; American Samoa Longline Limited Entry Program

AGENCY: National Marine Fisheries Service (NMFS), National Oceanic and Atmospheric Administration (NOAA), Commerce.

ACTION: Notice; availability of permit upgrades.

SUMMARY: NMFS is soliciting applications for American Samoa longline limited entry permit upgrades. Nineteen (19) permit upgrades will be available in 2008 for Class A vessel (i.e., less than or equal to 40 ft, or 12.2 m, in length) permit holders to upgrade to larger vessel size classes. The permit upgrades are available only to Class A permit holders who participated in the fishery before March 22, 2002, and the highest priority for receiving a permit upgrade will be given to the person with the earliest date of documented participation.

DATES: Completed applications for permit upgrades must be received by NMFS by June 30, 2008.

ADDRESSES: Send completed applications to NMFS Pacific Islands Region (PIR), ATTN: ASLE Permit Upgrade, 1601 Kapiolani Blvd., Suite 1110, Honolulu, HI 96814-4700.

Application forms are available from NMFS Pacific Islands Region, ATTN: Permits, 1601 Kapiolani Blvd., Suite 1110, Honolulu, HI 96814-4700, or the Pacific Islands Region website at www.fpir.noaa.gov.

FOR FURTHER INFORMATION CONTACT: Walter Ikehara, NMFS PIR, Tel 808-944-2275, Fax 808-973-2941, or e-mail Walter.Ikehara@noaa.gov.

SUPPLEMENTARY INFORMATION: On May 25, 2005, NMFS published a final rule (70 FR 29646) that established a limited entry program for the pelagic longline fishery based in American Samoa, under Amendment 11 to the Fishery Management Plan for Pelagic Fisheries in the Western Pacific Region. American Samoa longline limited entry permits were established for four vessel size classes, based on length:

• Class A: less than or equal to 40 ft (12.2 m);

• Class B and B-1: over 40 ft (12.2 m) to 50 ft (15.2 m) inclusive;

• Class C and C-1: over 50 ft (15.2 m) to 70 ft (21.3 m) inclusive; and

• Class D and D-1: over 70 ft (21.3 m).

The limited entry program allows for 26 permit upgrades to be made available for the exclusive use of permit holders in Class A, distributed over a four-year period following the issuance of initial limited entry permits. In 2008, 19 permit upgrades will be available (11 in Class B-1, six in Class C-1, and two in Class D-1). The Regional Administrator may initially issue permit upgrades only to persons who hold Class A permits and who participated in the American Samoa pelagic longline fishery before March 22, 2002. The highest priority will be given to those with the earliest date of documented participation. Those receiving upgraded permits must surrender their Class A permits and the surrendered permits are deducted from the allowed Class A permit total.

This notice announces the availability of permit upgrades and solicits applications for the upgrades. Complete applications must include the completed and signed application form (available from NMFS PIR, see ADDRESSES), legible copies of documents supporting historical participation in the American Samoa pelagic longline fishery, and payment for the non-refundable application processing fee. Documents supporting participation should show that fishing was conducted using longline gear. Applications must be received by NMFS by June 30, 2008 to be considered for eligibility for the 2008 permit upgrades.

Authoritative additional information on the American Samoa limited entry program may be found in Title 50 of the Code of Federal Regulations, part 665.

Authority: 16 U.S.C. 1801 et seq.

Dated: April 23, 2008.
Emily H. Menashes,
Acting Director, Office of Sustainable Fisheries, National Marine Fisheries Service.

[FR Doc. E8-9392 Filed 4-28-08; 8:45 am]

BILLING CODE 3510-22-S